DEPARTMENT OF TRANSPORTATION

Federal Railroad Administration

[Docket No. FRA-2024-0045]

Draft General Conformity Determination for the California High-Speed Rail System Palmdale to Burbank Section

AGENCY: Federal Railroad Administration (FRA), Department of Transportation (DOT).

ACTION: Notice; request for comment.

SUMMARY: FRA is issuing this notice to advise the public that a draft General Conformity Determination for the Palmdale to Burbank Section of the California High-Speed Rail (HSR) System is available for public and agency review and comment.

DATES: Comments must be received on or before May 2, 2024.

ADDRESSES: Comments related to Docket No. FRA-2024-0045 may be submitted by going to https://www.regulations.gov and following the online instructions for submitting comments.

Instructions: All submissions must include the agency name and docket number (FRA-2024-0045). All comments received will be posted without change to https://www.regulations.gov; this includes any personal information. Please see the Privacy Act Statement heading in the SUPPLEMENTARY INFORMATION section of this document for Privacy Act information related to any submitted comments or materials.

Docket: For access to the docket to read the draft General Conformity Determination, background documents, or comments received, go to https://www.regulations.gov and follow the online instructions for accessing the docket.

FOR FURTHER INFORMATION CONTACT: Lana Lau, Supervisory Environmental Protection Specialist, Office of Environmental Program Management, RRD, telephone: (202) 923-5314, email: Lana.Lau@dot.gov.

SUPPLEMENTARY INFORMATION:

Privacy Act Statement: FRA will post comments it receives, without edit, to www.regulations.gov, as described in the system of records notice, DOT/ALL-14 FDMS, accessible through www.dot.gov/privacy. To facilitate comment tracking and response, we encourage commenters to provide their name, or the name of their organization; however, inclusion of names is completely optional. Whether commenters identify themselves or not, all timely comments will be fully considered. If you wish to provide comments containing proprietary or confidential information, please contact the agency for alternate submission instructions.

Background: The California High-Speed Rail Authority (CHSRA) is advancing the environmental review of the Palmdale to Burbank (Project) of the California HSR System pursuant to 23 U.S.C. 327, under which it has assumed FRA's environmental review responsibilities. However, under section 327, FRA remains responsible for making General Conformity Determinations under the Clean Air Act. This draft General Conformity Determination documents FRA's evaluation of the Project, consistent with the relevant sections of the Clean Air Act and its implementing regulations.

FRA conducted the analysis of the Project's potential emissions consistent with all regulatory criteria and procedures and after coordination with CHSRA. FRA's analysis and CHSRA's coordination with relevant entities supports a proposed finding that Project-generated, construction-phase emissions for Nitrogen Dioxide (NOX) and Carbon Monoxide (CO) will be in excess of the General Conformity de minimis threshold in certain calendar years. However, CHSRA proposes to offset its construction-phase NOX exceedances to achieve conformance, consistent with applicable regulatory requirements in the Statewide Implementation Plan (SIP) for the South Coast Air Basin. In addition, the Project's emissions can be accommodated in the SIP, based on localized CO modeling showing that construction-phase CO emissions will not result in an exceedance of the NAAQS. Operation of the Project is expected to result in an overall reduction of regional emissions of all applicable air pollutants and would not cause a localized exceedance of the applicable regulatory requirements. FRA concludes that the Project, as designed, will conform to the SIP, based on a commitment from the CHSRA that construction-phase NOX emissions will be offset consistent with the applicable federal regulations in the South Coast Air Basin, and based on localized CO modeling, which demonstrates that construction-phase CO emissions will not cause or contribute to a violation of the NAAQS.

Next Steps: The draft General Conformity Determination for the Project is being issued for public review and comment for 30 days at Docket No. FRA-2024-0045. Comments related to Docket No. FRA-2024-0045 may be submitted by going to https://www.regulations.gov and following the online instructions for submitting comments. Although CHSRA is assisting FRA by disseminating notice of the availability of the draft General Conformity Determination through its usual outreach methods, CHSRA is not accepting comments on behalf of FRA. FRA cannot ensure consideration of any comment that is not submitted via https://www.regulations.gov. FRA will consider all relevant comments it receives before issuing a Final General Conformity Determination.

Issued in Washington, DC.
Marlys Ann Osterhues,
Director, Office of Environmental Program Management.

[FR Doc. 2024-06960 Filed 4-1-24; 8:45 am]

BILLING CODE 4910-06-P